DEPARTMENT OF ENERGY

Federal Energy Regulatory Commission

[Docket No. RP06-569-000]

Transcontinental Gas Pipe Line Corporation; Notice of Proposed Changes in FERC Gas Tariff

September 5, 2006.

Take notice that on August 31, 2006, Transcontinental Gas Pipe Line Corporation (Transco) tendered for filing as part of its FERC Gas Tariff, Third Revised Volume No. 1, the tariff sheets listed on Appendix to the filing, to become effective October 1, 2006:

Transco states that the proposed changes would increase revenues from jurisdictional service by $281,550,886 based on the 12-month period ending May 31, 2006, as adjusted.

Transco states that the principal factors supporting the increase in cost of service are: (a) An increase in operation and maintenance expenses; (b) an increase in depreciation expense; (c) the inclusion of costs for asset retirement obligations; (d) an increase in rate base resulting from additional plant; and (e) an increase in rate of return and related taxes. Transco asserts that the instant filing fulfills Transco's obligation in Article VI of the April 12, 2002 Stipulation and Agreement in Docket Nos. RP01-245-000, et al. to file a NGA Section 4(e) general rate case no later than September 1, 2006.

Transco further states that the filing reflects the following changes: (1) Changes to the annual depreciation accrual rates for certain of its categories; (2) the reclassification of certain assets from transmission plant accounts to jurisdictional gathering plant accounts, and tariff sheets reflecting an amended list of gathering points; (3) an adjustment to the cost of service to remove the cost of service associated with the Hester Storage Field; (4) incremental rates under Rate Schedule WSS-Open Access related to the replacement of base gas, and tariff sheets reflecting revisions to Rate Schedules WSS Open Access and WSS that will allow Transco to make limited Section 4 rate filings to recover the costs associated with the purchase of the base gas; (5) revised tariff sheets to remove the revenue sharing provisions from Rate Schedules ICTS, PAL and ISS; (6) a modification to its cost allocation and rate design methodology for the commodity rates of its SunBelt and SouthCoast expansion projects to apply a consistent cost allocation and commodity rate design methodology to service using those projects; and (7) the elimination of monthly billing determinants and calculation of rates to five decimal places.

Transco states that copies of the filing are being mailed to its affected customers and interested State Commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-14978 Filed 9-8-06; 8:45 am]

BILLING CODE 6717-01-P